DEPARTMENT OF DEFENSE

Office of the Secretary

Defense Health Board; Notice of Federal Advisory Committee Meeting

AGENCY: Department of Defense (DoD).

ACTION: Notice of Federal Advisory Committee meeting.

SUMMARY: The Department of Defense is publishing this notice to announce that the following Federal Advisory Committee meeting of the Defense Health Board will take place.

DATES:

Thursday, June 2, 2016

9:00 a.m.-10:15 a.m. (Closed Session)

10:15 a.m.-11:45 a.m. (Open Session)

11:45 a.m.-12:45 p.m. (Administrative Session)

12:45 p.m.-5:00 p.m. (Open Session)

ADDRESSES: Defense Health Headquarters (DHHQ), Pavilion Salons B-C, 7700 Arlington Blvd., Falls Church, Virginia 22042 (escort required; see guidance in SUPPLEMENTARY INFORMATION, “Public's Accessibility to the Meeting”).

FOR FURTHER INFORMATION CONTACT: The Executive Director of the Defense Health Board is Ms. Christine Bader, 7700 Arlington Boulevard, Suite 5101, Falls Church, Virginia 22042, (703) 681-6653, Fax: (703) 681-9539, christine.e.bader.civ@mail.mil. For meeting information, please contact Ms. Kendal Brown, 7700 Arlington Boulevard, Suite 5101, Falls Church, Virginia 22042, kendal.l.brown2.ctr@mail.mil, (703) 681-6670, Fax: (703) 681-9539.

SUPPLEMENTARY INFORMATION: This meeting is being held under the provisions of the Federal Advisory Committee Act of 1972 (5 U.S.C., Appendix, as amended), the Government in the Sunshine Act of 1976 (5 U.S.C. 552b, as amended), and 41 CFR 102-3.150.

Additional information, including the agenda and electronic registration, is available at the DHB Web site, http://www.health.mil/About-MHS/Other-MHS-Organizations/Defense-Health-Board/Meetings.

Purpose of the Meeting

The purpose of the meeting is to provide progress updates on specific taskings before the DHB. In addition, the DHB will receive information briefings on current issues or lessons learned related to military medicine, health policy, health research, disease/injury prevention, health promotion, and healthcare delivery.

Agenda

Pursuant to 5 U.S.C. 552b and 41 CFR 102-3.155, in the interest of national security, the DoD has determined that the first presentation in the morning of June 2, 2016 will be closed to the public. The topic is a presentation on the mission and functions of the National Center for Medical Intelligence. The Assistant Secretary of Defense (Health Affairs), in consultation with the Office of the DoD General Counsel, has determined in writing that the public interest requires that the first presentation in the morning session on June 2, 2016 be closed to the public because it will concern matters listed in section 552b(c)(1) of title 5, United States Code. The classified materials are so inextricably intertwined with the unclassified material that they cannot be reasonably segregated into separate discussions without disclosing SECRET material. Specifically, the information presented meets criteria established by an Executive Order to be kept secret in the interest of national defense and foreign policy.

Pursuant to 5 U.S.C. 552b and 41 CFR 102-3.140 through 102-3.165 and subject to availability of space, the DHB meeting is open to the public from 10:15 a.m. to 11:45 a.m. on June 2, 2016, and from 12:45 p.m. to 5:00 p.m. The DHB will receive a progress update from the Health Care Delivery Subcommittee on the pediatric clinical preventive services review and an update from the Public Health Subcommittee on their review of improving Defense Health Program medical research processes. In addition, the DHB anticipates receiving information briefings on Defense Advanced Research Projects Agency medical research, the Army Study to Assess Risk and Resilience in Servicemembers (STARRS), the Infectious Disease Clinical Research Program, and Advances in the Use of Whole Blood for Combat Trauma Resuscitation. Any changes to the agenda can be found at the link provided in this SUPPLEMENTARY INFORMATION section.

Public's Accessibility to the Meeting

Pursuant to 5 U.S.C. 552b, and 41 CFR 102-3.140 through 102-3.165 and subject to availability of space, this meeting is open to the public. Seating is limited and is on a first-come basis. All members of the public who wish to attend the public meeting must contact Ms. Kendal Brown at the number listed in the section FOR FURTHER INFORMATION CONTACT no later than 12:00 p.m. on Wednesday, May 25, 2016 to register. Additional details will be provided to all registrants.

Special Accommodations

Individuals requiring special accommodations to access the public meeting should contact Ms. Kendal Brown at least five (5) business days prior to the meeting so that appropriate arrangements can be made.

Written Statements

Any member of the public wishing to provide comments to the DHB may do so in accordance with section 10(a)(3) of the Federal Advisory Committee Act, 41 CFR 102-3.105(j) and 102-3.140, and the procedures described in this notice.

Individuals desiring to provide comments to the DHB may do so by submitting a written statement to the DHB Designated Federal Officer (DFO) (see FOR FURTHER INFORMATION CONTACT). Written statements should not be longer than two type-written pages and address the following details: The issue, discussion, and a recommended course of action. Supporting documentation may also be included, as needed, to establish the appropriate historical context and to provide any necessary background information.

If the written statement is not received at least five (5) business days prior to the meeting, the DFO may choose to postpone consideration of the statement until the next open meeting.

The DFO will review all timely submissions with the DHB President and ensure they are provided to members of the DHB before the meeting that is subject to this notice. After reviewing the written comments, the President and the DFO may choose to invite the submitter to orally present their issue during an open portion of this meeting or at a future meeting. The DFO, in consultation with the DHB President, may allot time for members of the public to present their issues for review and discussion by the Defense Health Board.

Dated: May 10, 2016.
Aaron Siegel,
Alternate OSD Federal Register Liaison Officer, Department of Defense.

[FR Doc. 2016-11342 Filed 5-12-16; 8:45 am]

BILLING CODE 5001-06-P